POSTAL SERVICE

Sunshine Act Meetings

TIME AND DATE: Thursday, August 8, 2024, at 9:00 a.m.; Thursday, August 8, 2024, at 4:30 p.m.

PLACE: Washington, DC, at U.S. Postal Service Headquarters, 475 L'Enfant Plaza SW, in the Benjamin Franklin Room.

STATUS: Thursday, August 8, 2024, at 9:00 a.m.—Closed. Thursday, August 8, 2024, at 4:30 p.m.—Open.

MATTERS TO BE CONSIDERED: Meeting of the Board of Governors

Thursday, August 8, 2024, at 9:00 a.m. (Closed)

1. Strategic Issues.

2. Financial and Operational Matters.

3. Compensation Matters.

4. Executive Session.

5. Administrative Items.

Thursday, August 8, 2024, at 4:30 p.m. (Open)

1. Remarks of the Chairman of the Board of Governors.

2. Remarks of the Postmaster General and CEO.

3. Approval of the Minutes.

4. Committee Reports.

5. Quarterly Financial Report.

6. Quarterly Service Performance Report.

7. Approval of Tentative Agenda for November 14 Meeting.

CONTACT PERSON FOR MORE INFORMATION: Michael J. Elston, Secretary of the Board of Governors, U.S. Postal Service, 475 L'Enfant Plaza SW, Washington, DC 20260-1000. Telephone: (202) 268-4800.

Michael J. Elston,
Secretary.

[FR Doc. 2024-16847 Filed 7-26-24; 4:15 pm]

BILLING CODE 7710-12-P